DEPARTMENT OF STATE

22 CFR Part 41

[Public Notice 3811]

Visas—Visa Classification Symbols: Corrections

AGENCY: Bureau of Consular Affairs, Department of State.

ACTION: Correcting amendments.

SUMMARY: The Department of State (the Department) is publishing this document to correct an error in a final rule published in the Federal Register [66 FR 32740] on June 18, 2001. The Department is also taking this opportunity to include the dependents of the SN categories to the N8 and N9 categories in accordance with the provisions of Pub. L. 105-277.

DATES: This rule takes effect on October 24, 2001.

FOR FURTHER INFORMATION CONTACT: Pam Chavez, Legislation and Regulations Division, Visa Office, (202) 663-1206.

SUPPLEMENTARY INFORMATION: On June 18, 2001, the Department amended section 41.12 of part 22 of the Code of Federal Regulations by adding the new nonimmigrant “T” classifications and the new nonimmigrant U classifications. The new T1 classification symbol would be used to classify victims of a severe form of trafficking in persons and the T2 classification for the spouse, child and parent of the T1. The rule also created two new U visa classification symbols; the U1 classification symbol for victims of criminal activity and the U2 for the spouse, child or parent of a U1.

The Immigration and Naturalization Service (INS), however, has decided there should be separate visa classifications for the spouses, the children and the parents of the T1 and U1 principals. This rule corrects section 41.12 by revising the T2 and U2 classification symbols and creating additional classification symbols T3, T4, U3, and U4.

This rule also amends the N8 and N9 categories to include dependents of the SN categories (NATO special immigrants) to comply with the provisions of Pub. L. 105-277. This rule corrects section 41.12 to read as follows:

List of Subjects in 22 CFR Part 41

Aliens, Nonimmigrants, Passports, and Visas.

Accordingly, 22 CFR part 41 is corrected by making the following correcting amendments:

PART 41—VISAS: DOCUMENTATION OF NONIMMIGRANTS UNDER THE IMMIGRATION AND NATIONALITY ACT, AS AMENDED

1. The authority citation for part 41 continues to read as follows:

Authority: 8 U.S.C. 1104; Pub. L. 105-277, 112 Stat. 2681 et. seq.

§ 41.12 (Amended)

2. In the table in § 41.12, revise the entries for N8 and N9, correct the entries for T2 and U2 and add the new visa classification symbols T3 and T4 and U3 and U4 to read as follows:

Nonimmigrants
Symbol and class | Section of law
* * * * *
N8 Parent of an Alien Classified SK3 or SN3 | 101(a)(15)(N)(i)
N9 Child of N8 or of an SK1, SK2, SK4, SN1, SN2 or SN4 | 101(a)(15)(N)(ii)
* * * * *
T2 Spouse of T1 | 101(a)(15)(T)(ii)
T3 Child of T1 | 101(a)(15)(T)(ii)
T4 Parent of T1 | 101(a)(15)(T)(ii)
* * * * *
U2 Spouse of U1 | 101(a)(15)(U)(ii)
U3 Child of U1 | 101(a)(15)(U)(ii)
U4 Parent of U1 | 101(a)(15)(U)(ii)
* * * * *

Dated: October 2, 2001.
Mary A. Ryan,
Assistant Secretary for Consular Affairs, Department of State.

[FR Doc. 01-26772 Filed 10-23-01; 8:45 am]

BILLING CODE 4710-06-P